DEPARTMENT OF HEALTH AND HUMAN SERVICES

[Docket No. OS-0945-New-60D]

Agency Information Collection Request; Reopening of Comment Period

AGENCY: Office of the Secretary, HHS.

ACTION: Notice; reopening of comment period.

SUMMARY: The Department of Health and Human Services (the Department) is reopening the comment period for the Notice, “Agency Information Collection Request; 60-Day Public Comment Request”, published in the Federal Register on September 11, 2025. The Department is taking this action to allow interested persons additional time to submit comments.

DATES: The comment period for the Notice published September 11, 2025, at 90 FR 44077, is reopened. Comments must be received by 5 p.m., eastern time, on January 5, 2026.

ADDRESSES: You may submit comments on this information collection request, identified by Docket No. OS-0945-New-60D, by emailing Conner O'Brien at OCRPrivacy@hhs.gov.

FOR FURTHER INFORMATION CONTACT: Conner O'Brien at OCRPrivacy@hhs.gov or (202) 240-3110.

SUPPLEMENTARY INFORMATION: On September 11, 2025, the Department published a Notice in the Federal Register to solicit public comments on a new agency information collection request for the form, “Confidentiality of Substance Use Disorder Patient Records Complaint.”

Because of a technical issue, the Department was unable to receive public comments on the information collection request for part of the comment period, between September 27, 2025, and November 10, 2025.

Therefore, to fulfill the requirement under the Paperwork Reduction Act of 1995 to provide 60 days for public comment on an information collection request, the Department is reopening the comment period until January 5, 2026.

Catherine Howard,
Paperwork Reduction Act Reports Clearance Officer, Department of Health and Human Services, Office of the Secretary.

[FR Doc. 2025-20253 Filed 11-18-25; 8:45 am]

BILLING CODE 4153-01-P